NATIONAL TRANSPORTATION SAFETY BOARD

Sunshine Act Meeting; Agenda

TIME AND DATE: 9:30 a.m., Tuesday, January 29, 2013.

PLACE: NTSB Conference Center, 429 L'Enfant Plaza SW., Washington, DC 20594.

STATUS: The one item is open to the public.

MATTER TO BE CONSIDERED:

8371A Aircraft Accident Report—Loss of Control, Sundance Helicopters, Inc., Eurocopter AS350-B2, N37SH, Near Las Vegas, Nevada, December 7, 2011.

NEWS MEDIA CONTACT: Telephone: (202) 314-6100.

The press and public may enter the NTSB Conference Center one hour prior to the meeting for set up and seating.

Individuals requesting specific accommodations should contact Rochelle Hall at (202) 314-6305 or by email at Rochelle.Hall@ntsb.gov by Friday, January 25, 2013.

The public may view the meeting via a live or archived webcast by accessing a link under “News & Events” on the NTSB home page at www.ntsb.gov.

Schedule updates including weather-related cancellations are also available at www.ntsb.gov.

FOR MORE INFORMATION CONTACT: Candi Bing, (202) 314-6403 or by email at bingc@ntsb.gov.

FOR MEDIA INFORMATION CONTACT: Peter Knudson (202) 314-6219 or by email at peter.knudson@ntsb.gov.

Dated: January 11, 2013.
Candi R. Bing,
Federal Register Liaison Officer.

[FR Doc. 2013-00822 Filed 1-11-13; 4:15 pm]

BILLING CODE 7533-01-P